DEPARTMENT OF COMMERCE

International Trade Administration

[A-485-803]

Certain Cut-to-Length Carbon Steel Plate From Romania: Amended Final Results of Antidumping Duty Administrative Review Pursuant to Final Court Decision

AGENCY: Import Administration, International Trade Administration, Department of Commerce.

SUMMARY: On November 7, 2007, the United States Court of International Trade (CIT) affirmed the final remand results made by the Department of Commerce (the Department) pursuant to the CIT's remand of the final results of the antidumping duty administrative review of the antidumping order on certain cut-to-length carbon steel plate from Romania. See Mittal Steel Galati S.A., Formerly Known as Ispat Sidex S.A. v. United States, Slip Op. 07-110 (CIT July 18, 2007) (Mittal Steel). As the CIT's decision affirming the final remand results was not appealed to the Court of Appeals for the Federal Circuit, the CIT's decision is final, and we are amending the final results of the review in this matter. We will instruct U.S. Customs and Border Protection (CBP) to liquidate entries subject to these amended final results.

DATES: Effective Date: January 18, 2008.

FOR FURTHER INFORMATION: John Drury or Angelica Mendoza, AD/CVD Operations, Office 7, Import Administration, U.S. Department of Commerce, 14th Street and Constitution Avenue, NW., Washington, DC 20230; telephone: (202) 482-0195 or (202) 482-3019, respectively.

SUPPLEMENTARY INFORMATION:

Background

On March 15, 2005, the Department published the final results of the administrative review for certain cut-to-length carbon steel plate from Romania covering the period August 1, 2002, through July 31, 2003. See Certain Cut-to-Length Carbon Steel Plate from Romania: Notice of Final Results and Final Partial Rescission of Antidumping Duty Administrative Review, 70 FR 12651 (March 15, 2005) (Final Results), and accompanying Issues and Decision Memorandum. On April 13, 2005, Mittal Steel Galati S.A. (Mittal) filed a summons at the CIT challenging the Final Results. On July 18, 2007, the Court issued its opinion in Mittal Steel remanding two issues to the Department (i.e., the Department's decision to value iron scrap as a material input and the Department's choice of a surrogate value for limestone), and affirming the Department on a third issue (i.e., the Department's rejection of the use of data from Mittal's Algerian affiliate in deriving surrogate financial ratios). The CIT also did not order the re-liquidation of certain entries of subject merchandise that were liquidated prior to the expiration of the statutory time limit for appeal, and prior to Mittal's application for a preliminary injunction, as Mittal had requested.

In accordance with the CIT's remand order, the Department filed its remand results on October 1, 2007. In those remand results, the Department provided an offset for scrap generated and re-used in the production process by Mittal, and reconsidered its valuation of the limestone input used to manufacture cut-to-length carbon steel plate for this proceeding. As a result, the Department recalculated the antidumping duty rate applicable to Mittal at 7.29 percent for the period of review.

On November 7, 2007, the CIT affirmed the Department's final results pursuant to remand. See Mittal Steel Galati S.A., Formerly Known as Ispat Sidex S.A. v. United States, Slip Op. 07-164 (CIT November 7, 2007) . There was no appeal of the CIT's decision to the U.S. Court of Appeals for the Federal Circuit filed within the appeal period. Therefore, the CIT's decision is now final and conclusive.

Amendment to Final Results

We are now amending the final results of this administrative review to reflect the final and conclusive decision of the CIT. The changes to our calculations with respect to Mittal resulted in a change in the weighted-average margin from 13.50 percent to 7.29 percent for the period of review. The Department will instruct CBP to liquidate entries of certain cut-to-length carbon steel plate from Romania produced by, exported to, or imported into the United States by Mittal during the review period at the assessment rates the Department calculated for these amended final results of review. We intend to issue the assessment instructions to CBP 15 days after the date of publication of these amended final results of review.

We are issuing and publishing these results in accordance with sections 751(a)(1) and 777(i)(1) of the Tariff Act of 1930, as amended.

Dated: January 11, 2008.
David Spooner,
Assistant Secretary for Import Administration.

[FR Doc. E8-898 Filed 1-17-08; 8:45 am]

BILLING CODE 3510-DS-P